DEPARTMENT OF TRANSPORTATION

Federal Aviation Administration

14 CFR Part 39

[Docket No. FAA-2015-4812; Directorate Identifier 2015-NM-034-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 787-8 airplanes. This proposed AD was prompted by a report that certain center and outboard stowage bin modules were incorrectly installed. This proposed AD would require an inspection of the center and outboard stowage bin modules for missing parts, quick release pins that are not fully engaged, and parts that are installed in incorrect locations; and corrective actions if necessary. We are proposing this AD to detect and correct incorrectly installed center and outboard stowage bin modules that might not remain intact during an emergency landing, resulting in injuries to occupants and interference with airplane evacuation.

DATES: We must receive comments on this proposed AD by January 4, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-4812.

Examining the AD Docket

You may examine the AD docket on the Internet at http://www.regulations.gov by searching for and locating Docket No. FAA-2015-4812; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Stanley Chen, Aerospace Engineer, Cabin Safety and Environmental Systems Branch, ANM-150S, FAA, Seattle Aircraft Certification Office (ACO), 1601 Lind Avenue SW., Renton, WA 98057-3356; phone: 425-917- 6585; fax: 425-917-6590; email: stanley.chen@faa.gov.

SUPPLEMENTARY INFORMATION:

Comments Invited

We invite you to send any written relevant data, views, or arguments about this proposal. Send your comments to an address listed under the ADDRESSES section. Include “Docket No. FAA-2015-4812; Directorate Identifier 2015-NM-034-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that certain center and outboard stowage bin modules were incorrectly installed on Model 787-8 airplanes. The affected stowage bin modules had parts that were missing or incorrectly installed and quick release pins that were not fully engaged. The missing and incorrectly installed parts included quick release pins, load transfer bars, tie rods, quick release pin retainers, radial struts, and splice fittings. Missing or incorrectly installed parts affect the load capability of a stowage bin, and during an emergency landing that stowage bin might not remain intact. We are proposing this AD to detect and correct incorrectly installed center and outboard stowage bin modules that might not remain intact during an emergency landing, resulting in injuries to occupants and interference with airplane evacuation.

Related Service Information Under 1 CFR Part 51

We reviewed the following Boeing service information. This service information describes procedures for inspecting the installation of the center and outboard stowage bin modules and doing corrective actions.

• Boeing Alert Service Bulletin B787-81205-SB250036-00, Issue 001, dated September 10, 2013.

• Boeing Alert Service Bulletin B787-81205-SB250039-00, Issue 001, dated October 8, 2013.

• Boeing Alert Service Bulletin B787-81205-SB250040-00, Issue 001, dated October 14, 2013.

• Boeing Alert Service Bulletin B787-81205-SB250041-00, Issue 001, dated October 18, 2013.

• Boeing Alert Service Bulletin B787-81205-SB250042-00, Issue 001, dated October 28, 2013.

• Boeing Alert Service Bulletin B787-81205-SB250043-00, Issue 001, dated November 4, 2013.

• Boeing Alert Service Bulletin B787-81205-SB250044-00, Issue 001, dated November 8, 2013.

• Boeing Alert Service Bulletin B787-81205-SB250045-00, Issue 001, dated November 15, 2013.

This service information is reasonably available because the interested parties have access to it through their normal course of business or by the means identified in the ADDRESSES section of this NPRM.

FAA's Determination

We are proposing this AD because we evaluated all the relevant information and determined the unsafe condition described previously is likely to exist or develop in other products of the same type design.

Proposed AD Requirements

This proposed AD would require accomplishing the actions specified in the service information described previously. Refer to this service information for details on the procedures and compliance times.

The phrase “corrective actions” might be used in this proposed AD. “Corrective actions” are actions that correct or address any condition found. Corrective actions in an AD could include, for example, repairs.

Costs of Compliance

We estimate that this proposed AD affects 6 airplanes of U.S. registry.

We estimate the following costs to comply with this proposed AD:

Estimated Costs
Action | Labor cost | Parts cost | Cost per product | Cost on U.S. operators
Inspection | 222 work-hours × $85 per hour = $18,870 | $0 | $18,870 | $113,220

We estimate the following costs to do any necessary replacements that would be required based on the results of the proposed inspection. We have no way of determining the number of aircraft that might need these replacements.

On-Condition Costs
Action | Labor cost | Parts cost | Cost per product
Replacement | 20 work-hours × $85 per hour = $1,700 | Up to $21,191 | Up to $22,891.

According to the manufacturer, all of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2015-4812; Directorate Identifier 2015-NM-034-AD.

(a) Comments Due Date

We must receive comments by January 4, 2016.

(b) Affected ADs

None.

(c) Applicability

This AD applies to certain The Boeing Company Model 787-8 airplanes, certificated in any category, identified in the service information specified in paragraphs (c)(1) through (c)(8) of this AD.

(1) Boeing Alert Service Bulletin B787-81205-SB250036-00, Issue 001, dated September 10, 2013.

(2) Boeing Alert Service Bulletin B787-81205-SB250039-00, Issue 001, dated October 8, 2013.

(3) Boeing Alert Service Bulletin B787-81205-SB250040-00, Issue 001, dated October 14, 2013.

(4) Boeing Alert Service Bulletin B787-81205-SB250041-00, Issue 001, dated October 18, 2013.

(5) Boeing Alert Service Bulletin B787-81205-SB250042-00, Issue 001, dated October 28, 2013.

(6) Boeing Alert Service Bulletin B787-81205-SB250043-00, Issue 001, dated November 4, 2013.

(7) Boeing Alert Service Bulletin B787-81205-SB250044-00, Issue 001, dated November 8, 2013.

(8) Boeing Alert Service Bulletin B787-81205-SB250045-00, Issue 001, dated November 15, 2013.

(d) Subject

Air Transport Association (ATA) of America Code 25, Equipment/Furnishings.

(e) Unsafe Condition

This AD was prompted by a report that certain center and outboard stowage bin modules were incorrectly installed. We are issuing this AD to detect and correct incorrectly installed center and outboard stowage bin modules that might not remain intact during an emergency landing, resulting in injuries to occupants and interference with airplane evacuation.

(f) Compliance

Comply with this AD within the compliance times specified, unless already done.

(g) Inspection and Corrective Action

Except as specified in paragraph (h) of this AD: At the applicable time specified in paragraph 5., “Compliance,” of the applicable service information specified in paragraphs (g)(1) through (g)(8) of this AD: Do a general visual inspection of the installations of the center and outboard stowage bin modules to determine if any part is missing, if any part is installed at an incorrect location, or if any quick release pin is not fully engaged; and do all applicable corrective actions; in accordance with the Accomplishment Instructions of the applicable service information identified in paragraphs (g)(1) through (g)(8) of this AD. Do all applicable corrective actions before further flight.

(1) For airplanes having variable numbers (V/Ns) ZA177 through ZA183 inclusive: Use Boeing Alert Service Bulletin B787-81205-SB250036-00, Issue 001, dated September 10, 2013.

(2) For airplanes having V/Ns ZA100 through ZA105 inclusive, V/Ns ZA116 through ZA119 inclusive, V/N ZA135, and V/NsZA506 through ZA511 inclusive: Use Boeing Alert Service Bulletin B787-81205-SB250039-00, Issue 001, dated October 8, 2013.

(3) For airplanes having V/Ns ZA460 through ZA464 inclusive: Use Boeing Alert Service Bulletin B787-81205-SB250040-00, Issue 001, dated October 14, 2013.

(4) For airplanes having V/Ns ZA233 and V/Ns ZA236 through ZA240 inclusive: Use Boeing Alert Service Bulletin B787-81205-SB250041-00, Issue 001, dated October 18, 2013.

(5) For airplanes having V/Ns ZA285 through ZA290 inclusive: Use Boeing Alert Service Bulletin B787-81205-SB250042-00, Issue 001, dated October 28, 2013.

(6) For airplanes having V/Ns ZA270 through ZA271 inclusive: Use Boeing Alert Service Bulletin B787-81205-SB250043-00, Issue 001, dated November 4, 2013.

(7) For airplanes having V/Ns ZA261 through ZA264 inclusive: Use Boeing Alert Service Bulletin B787-81205-SB250044-00, Issue 001, dated November 8, 2013.

(8) For airplanes having V/Ns ZA536 through ZA538 inclusive: Use Boeing Alert Service Bulletin B787-81205-SB250045-00, Issue 001, dated November 15, 2013.

(h) Exceptions to Service Information Specifications

Where the service information identified in paragraphs (g)(1) through (g)(8) of this AD specifies a compliance time “after the original issue date of this service bulletin,” this AD requires compliance within the specified compliance time after the effective date of this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane and the approval must specifically refer to this AD.

(j) Related Information

(1) For more information about this AD, contact Stanley Chen, Aerospace Engineer, Cabin Safety and Environmental Systems Branch, ANM-150S, FAA, Seattle ACO, 1601 Lind Avenue SW., Renton, WA 98057-3356; phone: 425-917-6585; fax: 425-917-6590; email: stanley.chen@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. For information on the availability of this material at the FAA, call 425-227-1221.

Issued in Renton, Washington, on November 4, 2015.
Dionne Palermo,
Acting Manager, Transport Airplane Directorate, Aircraft Certification Service.

[FR Doc. 2015-28882 Filed 11-16-15; 8:45 am]

BILLING CODE 4910-13-P